DEPARTMENT OF STATE

[Public Notice: 9222]

60-Day Notice of Proposed Information Collection: Local U.S. Citizen Skills/Resources Survey

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to October 19, 2015.

ADDRESSES: You may submit comments by any of the following methods:

• Web: Persons with access to the Internet may comment on this notice by going to www.Regulations.gov. You can search for the document by entering Docket Number: DOS-2015-0026 in the search field. Then click the “Comment Now” button and complete the comment form.

• Email: RiversDA@state.gov.

• Mail: (paper, disk, or CD-ROM submissions): U.S. Department of State, CA/OCS/PMO, SA-17, 10th Floor, Washington, DC 20036.

• Fax: 202-736-9111.

• Hand Delivery or Courier: U.S. Department of State, CA/OCS/PMO, 600 19th St. NW., 10th Floor, Washington, DC 20036.

You must include the DS form number (if applicable), information collection title, and the OMB control number in any correspondence.

FOR FURTHER INFORMATION CONTACT: Direct requests for additional information regarding the collection listed in this notice, including requests for copies of the proposed collection instrument and supporting documents, to Kaye Shaw, Bureau of Consular Affairs, Overseas Citizens Services (CA/OCS/PMO), U.S. Department of State, SA-17, 10th Floor, Washington, DC 20036 or at mailto:shawkm@state.gov.

SUPPLEMENTARY INFORMATION:

• Title of Information Collection: Local U.S. Citizen Skills/Resources Survey.

• OMB Control Number: OMB No. 1405-0188.

• Type of Request: Extension.

• Originating Office: Bureau of Consular Affairs, Overseas Citizens Services (CA/OCS).

• Form Number: DS-5506.

• Respondents: United States Citizens.

• Estimated Number of Respondents: 2,400.

• Estimated Number of Responses: 2,400.

• Average Hours per Response: 15 minutes.

• Total Estimated Burden: 600 hours.

• Frequency: On Occasion.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the requests for information to be collected.

• Minimize the reporting burden on those who are to respond, including the use of automated collection techniques or other forms of information technology.

Please note that comments submitted in response to this Notice are public record. Before including any detailed personal information, you should be aware that your comments as submitted, including your personal information, will be available for public review.

Abstract of proposed collection:

The Local U.S. Citizen Skills/Resources Survey is a systematic method of gathering information about skills and resources from U.S. citizens that will assist in improving the well-being of other U.S. citizens affected or potentially affected by a crisis.

Methodology:

This information collection can be completed by the respondent electronically or manually. The information will be collected on-site at a U.S. Embassy/Consulate, by mail, fax, or email.

Dated: July 29, 2015.
Michelle Bernier-Toth,
Managing Director, Bureau of Consular Affairs, Department of State.

[FR Doc. 2015-20239 Filed 8-17-15; 8:45 am]

BILLING CODE 4710-06-P